SMALL BUSINESS ADMINISTRATION

[Disaster Declaration #18100 and #18101; ALASKA Disaster Number AK-00059]

Presidential Declaration Amendment of a Major Disaster for the State of Alaska

AGENCY: Small Business Administration.

ACTION: Amendment 2.

SUMMARY: This is an amendment of the Presidential declaration of a major disaster for the State of Alaska (FEMA-4730-DR), dated 08/23/2023.

Incident: Flooding.

Incident Period: 05/12/2023 through 06/03/2023.

DATES: Issued on 10/30/2023.

Physical Loan Application Deadline Date: 12/22/2023.

Economic Injury (EIDL) Loan Application Deadline Date: 05/23/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Alaska, dated 08/23/2023, is hereby amended to include the following areas as adversely affected by the disaster:

Primary Areas (Physical Damage and Economic Injury Loans): Kusilvak Census Area, Yupiit REAA.

Contiguous Areas (Economic Injury Loans Only): All contiguous areas have previously been declared.

All other information in the original declaration remains unchanged.

(Catalog of Federal Domestic Assistance Number 59008)

Francisco Sánchez, Jr.,
Associate Administrator, Office of Disaster Recovery & Resilience.

[FR Doc. 2023-24351 Filed 11-2-23; 8:45 am]

BILLING CODE 8026-09-P